DEPARTMENT OF TRANSPORTATION

Pipeline and Hazardous Materials Safety Administration

[Docket No. PHMSA-2009-0057]

Information Collection Activities

AGENCY: Pipeline and Hazardous Materials Safety Administration (PHMSA), DOT.

ACTION: Notice and request for comments.

SUMMARY: In accordance with the Paperwork Reduction Act of 1995, PHMSA invites comments on certain information collections pertaining to pipeline safety for which PHMSA intends to request renewal from the Office of Management and Budget (OMB).

DATES: Interested persons are invited to submit comments on or before April 21, 2009.

ADDRESSES: You may submit comments identified by the docket number (PHMSA-2009-0057) by any of the following methods:

• Federal eRulemaking Portal: http://www.regulations.gov. Follow the online instructions for submitting comments.

• FAX: 1-202-493-2251.

• Mail: Docket Management System, U.S. Department of Transportation, Docket Operations, M-30, West Building Ground Floor, Room W12-140, 1200 New Jersey Avenue, SE., Washington, DC 20590.

• Hand Delivery: Docket Operations, M-30, West Building Ground Floor, Room W12-140, 1200 New Jersey Avenue, SE., Washington, DC 20590, from 9 a.m. to 5 p.m., Monday through Friday, except Federal holidays.

Instructions: All submissions must include the agency name and docket number or Regulation Identification Number (RIN) for this notice. Internet users may access comments received by DOT at: http://www.regulations.gov. Note that comments received will be posted without change to: http://www.regulations.gov. including any personal information provided.

Requests for a copy of an information collection should be directed to Cameron Satterthwaite, Office of Pipeline Safety (PHP-30), Pipeline and Hazardous Materials Safety Administration, 1200 New Jersey Avenue, SE., East Building, 2nd Floor, Washington, DC 20590-0001, Telephone (202) 366-1319.

FOR FURTHER INFORMATION CONTACT: Cameron Satterthwaite, Office of Pipeline Safety (PHP-30), Pipeline and Hazardous Materials Safety Administration, 1200 New Jersey Avenue, SE., East Building, 2nd Floor, Washington, DC 20590-0001, Telephone (202) 366-8553.

SUPPLEMENTARY INFORMATION: Section 1320.8(d), Title 5, Code of Federal Regulations requires PHMSA to provide interested members of the public and affected agencies an opportunity to comment on information collection and recordkeeping requests. This notice identifies information collection requests that PHMSA will be submitting to OMB for renewal and extension. These information collections are contained in the pipeline safety regulations, 49 CFR parts 190-199. PHMSA has revised burden estimates, where appropriate, to reflect current reporting levels or adjustments based on changes in proposed or final rules published since the information collections were last approved. The following information is provided for each information collection: (1) Title of the information collection; (2) OMB control number; (3) type of request; (4) abstract of the information collection activity; (5) description of affected public; (6) estimate of total annual reporting and recordkeeping burden; and (7) frequency of collection. PHMSA will request a three-year term of approval for each information collection activity.

PHMSA requests comments on the following information collections:

Title: Response Plans for Onshore Oil Pipelines.

OMB Control Number: 2137-0589.

Type of Request: Renewal of a currently approved information collection.

Abstract: 49 CFR Part 194 requires an operator of an onshore oil pipeline facility to prepare and submit an oil spill response plan to PHMSA for review and approval.

Affected Public: Operators of onshore oil pipeline facilities.

Recordkeeping:

Number of Respondents: 367.

Total Annual Burden Hours: 50,186.

Frequency of Collection: On occasion.

Title: Pipeline Integrity Management in High Consequence Areas Gas Transmission Pipeline Operators.

OMB Control Number: 2137-0610.

Type of Request: Renewal of a currently approved information collection.

Abstract: 49 CFR 192.947 requires operators of gas transmission pipelines located in or near high consequence areas to maintain a written integrity management program and records showing compliance with 49 CFR part 192, subpart O. In addition, operators must submit documentation relative to their integrity management program to PHMSA as applicable.

Affected Public: Operators of gas transmission pipelines located in or near high consequence areas.

Recordkeeping:

Number of Respondents: 721.

Total Annual Burden Hours: 1,030,343.

Frequency of collection: On occasion.

Issued in Washington, DC on February 17, 2009.
John A. Gale,
Director of Regulations.

[FR Doc. E9-3667 Filed 2-19-09; 8:45 am]

BILLING CODE 4910-60-P